SECURITIES AND EXCHANGE COMMISSION

[SEC File No. 270-336, OMB Control No. 3235-0379]

Submission for OMB Review; Comment Request; Extension: Form F-X

Upon Written Request Copies Available From: Securities and Exchange Commission, Office of FOIA Services, 100 F Street, NE, Washington, DC 20549-2736.

Notice is hereby given that, pursuant to the Paperwork Reduction Act of 1995 (44 U.S.C. 3501 et seq.), the Securities and Exchange Commission (“Commission”) is soliciting comments on the collection of information summarized below. The Commission plans to submit this existing collection of information to the Office of Management and Budget for extension and

Form F-X (17 CFR 239.42) is used to appoint an agent for service of process by Canadian issuers registering securities on Forms F-7, F-8, F-9, or F-10 under the Securities Act of 1933 (15 U.S.C. 77a et seq.) or filing periodic reports on Form 40-F under the Exchange Act of 1934 (15 U.S.C. 78a et seq.). The information collected must be filed with the Commission and is publicly available. We estimate that it takes approximately 2 hours per response to prepare Form F-X and that the information is filed by approximately 137 respondents for a total annual reporting burden of 274 hours (2 hours per response × 137 responses).

An agency may not conduct or sponsor, and a person is not required to respond to, a collection of information unless it displays a currently valid control number.

Public Comment Instructions: The public may view and comment on this information collection request at: https://www.reginfo.gov/public/do/PRAViewICR?ref_nbr=202412-3235-014 or send an email comment to MBX.OMB.OIRA.SEC_desk_officer@omb.eop.gov within 30 days of the day after publication of this notice by January 27, 2025.

Dated: December 19, 2024.
J. Matthew DeLesDernier,
Deputy Secretary.

[FR Doc. 2024-30769 Filed 12-23-24; 8:45 am]

BILLING CODE 8011-01-P